DEPARTMENT OF THE INTERIOR

Fish and Wildlife Service

50 CFR Part 21

[FWS-R9-MB-2007-0012; 91200-1231-9BPP]

RIN 1018-AV35

Migratory Bird Permits; Revisions to Migratory Bird Import and Export Regulations

AGENCY: Fish and Wildlife Service, Interior.

ACTION: Correcting amendments.

SUMMARY: We, the U.S. Fish and Wildlife Service, published a document in the Federal Register on August 13, 2008 that revised the regulations governing migratory bird permitting. That document inadvertently used the term “migratory game birds” in a way that contradicts the existing definition of that term elsewhere in our regulations. This document corrects the final regulations.

DATES: This rule is effective on September 25, 2008.

FOR FURTHER INFORMATION CONTACT: Dr. George T. Allen, Division of Migratory Bird Management, U.S. Fish and Wildlife Service, 703-358-1825.

SUPPLEMENTARY INFORMATION:

Background

On August 13, 2008, we published a document in the Federal Register (73 FR 47092) that revised the regulations governing migratory bird permitting at 50 CFR part 21. Section 21.21(b) of the revised regulations concern import and export permits for migratory birds. In that section, we inadvertently used the term “migratory game birds” in a way that contradicts the existing definition of that term in our regulations at 50 CFR 20.11(a). The definition at 50 CFR 20.11(a) limits the definition of “migratory game birds” to, among other things, those migratory birds “for which open seasons are prescribed” in part 20. Because of this definition, many of the migratory birds that we had intended 50 CFR 21.21(b) to cover are not covered by the new regulations. We are therefore publishing this document to correct the final regulations by revising § 21.21(b) to remove the term “migratory game birds” and instead use the more generic term “migratory birds.”

List of Subjects in 50 CFR Part 21

Exports, Hunting, Imports, Reporting and recordkeeping requirements, Transportation, Wildlife.

Accordingly, 50 CFR part 21 is corrected by making the following correcting amendments:

PART 21—MIGRATORY BIRD PERMITS

1. The authority citation for part 21 continues to read as follows:

Authority: Migratory Bird Treaty Act, 40 Stat. 755 (16 U.S.C. 703); Public Law 95-616, 92 Stat. 3112 (16 U.S.C. 712(2)); Public Law 106-108, 113 Stat. 1491, Note following 16 U.S.C. 703.

§ 21.21 [Amended]

2. In § 21.21, amend paragraph (b) introductory text by:

a. Removing the words “Game bird” from the heading; and

b. Removing the word “game” both times that it appears in the second and third sentences.

Dated: September 19, 2008.
Sara Prigan,
Federal Register Liaison.

[FR Doc. E8-22516 Filed 9-24-08; 8:45 am]

BILLING CODE 4310-55-P